NUCLEAR REGULATORY COMMISSION

[Docket No. NRC-2012-0081]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 30, 2012 (77 FR 25505).

1. Type of submission, new, revision, or extension: Extension.

2. The title of the information collection: Request for Information Pursuant to 10 CFR 50.54(f) Regarding Recommendations 2.1, 2.3, and 9.3, of the Near-Term Task Force Review of insights from the Fukushima Dai-Ichi Event.

3. Current OMB approval number: 3150-0211.

4. The form number if applicable: N/A.

5. How often the collection is required: Once.

6. Who will be required or asked to report: 104 power reactor licensees, 2 reactors in the process of resuming licensing, and 2 Combined License applicants (2 units each).

7. An estimate of the number of annual responses: 525.3.

8. The estimated number of annual respondents: 110.

9. An estimate of the total number of hours needed annually to complete the requirement or request: 457,502 hours.

10. Abstract: Following events at the Fukushima Dai-Ichi nuclear power plant resulting from the March 11, 2011, earthquake and subsequent tsunami, and in response to requirements contained in Section 402 of the Consolidated Appropriations Act (Pub. L. 112-074), the NRC sought an expedited clearance from OMB to allow the collection of information from power reactor licensees pursuant to 10 CFR 50.54(f). The OMB approved this clearance, which will expire on September 30, 2012. The NRC has resubmitted this collection to the OMB under the normal clearance processes. The information requested includes seismic and flooding hazard reevaluations to determine if further regulatory action is necessary, walkdowns to confirm compliance with the current licensing basis and provide input to the hazard reevaluations, and analysis of the Emergency Preparedness capability with respect to staffing and communication ability during a prolonged multiunit event.

The public may examine and have copied for a fee publicly available documents, including the final supporting statement, at the NRC's Public Document Room, Room O1-F21, One White Flint North, 11555 Rockville Pike, Rockville, Maryland 20852. The OMB clearance requests are available at the NRC's Web site: http://www.nrc.gov/public-involve/doc-comment/omb/. The document will be available on the NRC home page site for 60 days after the signature date of this notice.

Comments and questions should be directed to the OMB reviewer listed below by September 17, 2012. Comments received after this date will be considered if it is practical to do so, but assurance of consideration cannot be given to comments received after this date. Chad Whiteman, Desk Officer, Office of Information and Regulatory Affairs (3150-0211), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 9th day of August, 2012.
For the Nuclear Regulatory Commission.
Tremaine Donnell,
NRC Clearance Officer, Office of Information Services.

[FR Doc. 2012-20184 Filed 8-16-12; 8:45 am]

BILLING CODE 7590-01-P